DEPARTMENT OF HEALTH AND HUMAN SERVICES

Food and Drug Administration

[Docket No. FDA-2014-N-0833]

Office of the Commissioner; Request for Comments on the Food and Drug Administration Fiscal Year 2014-2018 Strategic Priorities Document; Request for Comments

AGENCY: Food and Drug Administration, HHS.

ACTION: Notice; request for comments.

SUMMARY: The Food and Drug Administration (FDA) is seeking public comments on its draft Strategic Priorities Fiscal Year (FY) 2014-2018 document. FDA has identified these cross-cutting strategic priorities and core mission goals that will guide its efforts to achieve its public health mission. FDA is seeking public comment to help further refine these priorities and goals.

DATES: Submit either electronic or written comments by July 31, 2014.

ADDRESSES: Submit electronic comments to http://www.regulations.gov. Submit written comments to the Division of Dockets Management (HFA-305), Food and Drug Administration, 5630 Fishers Lane, Rm. 1061, Rockville, MD 20852.

FOR FURTHER INFORMATION CONTACT: Darian Tarver, Office of the Commissioner, Food and Drug Administration, 10903 New Hampshire Ave., Bldg. 32, Rm. 3238, Silver Spring, MD 20993-0002, 301-796-4850.

SUPPLEMENTARY INFORMATION:

I. Background

FDA is posting its draft Strategic Priorities FY 2014-2018 document to ensure that the public has an opportunity to comment on this document.

The purpose of this document is to outline FDA's strategic intentions and plans for the next 4 years. This document identifies five cross-cutting strategic priorities and four core mission goals that will guide efforts to achieve FDA's public health mission and to fulfill its role in supporting the larger mission and strategic goals of the Department of Health and Human Services. The five cross-cutting strategic priorities are: (1) Regulatory science, (2) globalization, (3) safety and quality, (4) smart regulation, and (5) stewardship. The four core mission goals are: (1) Enhance oversight of FDA-regulated products, (2) improve and safeguard access to FDA-regulated products to benefit health, (3) promote better informed decisions about the use of FDA-regulated products, and (4) strengthen organizational excellence and accountability.

For comparison purposes, the current FDA Strategic Priorities FY 2011-2015 document can be viewed at http://www.fda.gov/AboutFDA/ReportsManualsForms/Reports/ucm227527.htm.

The text of the draft Strategic Priorities FY 2014-2018 document is available in a downloadable portable document format through FDA's Web site: http://www.fda.gov/AboutFDA/. We look forward to receiving your comments (see DATES).

II. Comments

Interested persons may submit either electronic comments regarding this document to http://www.regulations.gov or written comments to the Division of Dockets Management (see ADDRESSES). It is only necessary to send one set of comments. Identify comments with the docket number found in brackets in the heading of this document. Received comments may be seen in the Division of Dockets Management between 9 a.m. and 4 p.m., Monday through Friday, and will be posted to the docket at http://www.regulations.gov.

Dated: June 26, 2014.
Leslie Kux,
Assistant Commissioner for Policy.

[FR Doc. 2014-15374 Filed 6-30-14; 8:45 am]

BILLING CODE 4164-01-P